DEPARTMENT OF TRANSPORTATION

Federal Aviation Administration

14 CFR Part 71

[Docket No. FAA-2024-2530; Airspace Docket No. 24-ASO-33]

RIN 2120-AA66

Amendment of Class E Airspace; Ahoskie, NC

AGENCY: Federal Aviation Administration (FAA), DOT.

ACTION: Final rule; correction.

SUMMARY: The Federal Aviation Administration (FAA) is correcting a final rule that appeared in the Federal Register on March 5, 2025. The final rule amended Class E airspace extending upward from 700 feet above the surface for ECU Health Roanoke Chowan Heliport, Ahoskie, NC, to accommodate new area navigation (RNAV) global positioning system (GPS) standard instrument approach procedures serving the heliport. This action corrects that rule by changing the effective date to June 12, 2025.

DATES: Effective 0901 UTC, April 17, 2025. As of March 31, 2025, the effective date of the rule published March 5, 2025, at 90 FR 11216 is corrected from 0901 UTC, April 17, 2025, to 0901 UTC, June 12, 2025.

FOR FURTHER INFORMATION CONTACT: Marc Ellerbee, Operations Support Group, Eastern Service Center, Federal Aviation Administration, 1701 Columbia Ave., College Park, GA 30337; Telephone (404) 305-5589.

SUPPLEMENTARY INFORMATION: In the final rule published March 5, 2025, (90 FR 11216) for Doc. No. FAA-2024-2530, the published effective date was incorrect. Accordingly, the effective date for the amended Class E airspace extending upward from 700 feet above the surface for ECU Health Roanoke Chowan Heliport, Ahoskie, NC, to accommodate new area navigation (RNAV) global positioning system (GPS) standard instrument approach procedures serving the heliport is corrected to June 12, 2025.

Correction to the Final Rule

In the Federal Register of Wednesday, March 5, 2025, in FR Doc. 2025-03533, on page 11216, in the third column, correct the DATES caption to read as follows:

Dates: Effective 0901 UTC, June 12, 2025. The Director of the Federal Register approves this incorporation by reference action under 1 CFR part 51, subject to the annual revision of FAA Order JO 7400.11 and publication of conforming amendments.

Issued in College Park, Georgia, on March 18, 2025.
Patrick Young,
Manager, Airspace & Procedures Team North, Eastern Service Center, Air Traffic Organization.

[FR Doc. 2025-04905 Filed 3-28-25; 8:45 am]

BILLING CODE 4910-13-P